DEPARTMENT OF HEALTH AND HUMAN SERVICES

National Institutes of Health

National Heart, Lung, and Blood Institute Amended; Notice of Meeting

Notice is hereby given of a change in the meeting of the National Heart, Lung, and Blood Institute Special Emphasis Panel, October 10, 2013, 08:00 a.m. to October 10, 2013, 12:00 p.m., Doubletree Hotel Bethesda, (Formerly Holiday Inn Select), 8120 Wisconsin Avenue, Bethesda, MD, 20814 which was published in the Federal Register on September 20, 2013, 78 FR 57866.

The notice is amended to change the date of the meeting from October 10, 2013 to December 17, 2013. The meeting is closed to the public.

Dated: November 13, 2013.
Michelle Trout,
Program Analyst, Office of Federal Advisory Committee Policy.

[FR Doc. 2013-27590 Filed 11-18-13; 8:45 am]

BILLING CODE 4140-01-P